DEPARTMENT OF JUSTICE

Notice of Lodging of Stipulation and Order Pursuant to Comprehensive Environmental Response, Compensation and Liability Act

Notice is hereby given that on February 26, 2007, a Consent Judgment (“CJ”) in United States v. Estate of Joseph Vazzana, Sr., et al. Civil No. CV-04-0620 (E.D.N.Y.) was lodged with the United States District Court for the Eastern District of New York.

In this action the United States sued Joseph Vazzana, Jr. and the Estate of Joseph Vazzana, Sr. pursuant to Section 107(a) of the Comprehensive Environmental Response, Compensation, and Liability Act of 1980, as amended (“CERCLA”), 42 U.S.C. 9607(a), for recovery of response costs regarding the Spectrum Finishing Corp. Superfund Site in West Babylon, Suffolk County, New York (the “Site”). The complaint also asserted a claim in rem against “One Acre of Land,” i.e., the property comprising the Site. The property is subject to certain liens, and other parties have filed claims in this action regarding the property. The CJ requires Joseph Vazzana, Jr. to presently pay $1,000 and requires the Estate of Joseph Vazzana, Sr. to additionally pay up to $1,100,000 from the sale of real property in the Estate. The latter payment will be made according to a method and schedule to be determined in a subsequent settlement, judgment, or other action that addresses, to the extent appropriate, the claims filed in this action with respect to the Site property.

The Department of Justice will receive for a period of thirty (30) days from the date of this publication comments relating to the settlement. Comments should be addressed to the Assistant Attorney General, Environment and Natural Resources Division, and either e-mailed to pubcomment-ees.enrd@usdoj.gov or mailed to P.O. Box 7611, U.S. Department of Justice, Washington, DC 20044-7611, and should refer to U.S. v. Estate of Joseph Vazzana, Sr., et al., D.J. Ref. 90-11-3-07461.

The settlement may be examned at the Office of the United States Attorney, Eastern District of New York, One Pierrepont Plaza, 14th Fl., Brooklyn, New York 11201, and at the Region II Office of the U.S. Environmental Protection Agency, Region II Record Center, 290 Broadway, 17th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (37 cents per page reproduction cost) payable to the U.S. Treasury or, if by e-mail or fax, forward a check in that amount to the Consent Decree Library at the stated address.

Ronald Gluck,
Assistant Chief, Environmental Enforcement Section, Environment and Natural Resources Division.

[FR Doc. 07-1390 Filed 3-21-07; 8:45 am]

BILLING CODE 4410-15-M